DEPARTMENT OF ENERGY

Notice of 229 Boundary Revision for the East Tennessee Technology Park (Formerly the Oak Ridge Gaseous Diffusion Plant, K-25)

AGENCY: Office of Environmental Management, Department of Energy (DOE).

ACTION: Notice of 229 Boundary Revisions for the East Tennessee Technology Park (ETTP) (formerly the Oak Ridge Gaseous Diffusion Plant, K-25).

SUMMARY: Notice is hereby given that the U.S. Department of Energy, pursuant to Section 229 of the Atomic Energy Act of 1954, as amended, as implemented by DOE's regulations regarding Trespassing on Department of Energy Property which published in the Federal Register (FR) on August 26, 1963, prohibits the unauthorized entry, and the unauthorized introduction of weapons or dangerous materials, into or upon the following described facilities of the ETTP of the United States Department of Energy.

FOR FURTHER INFORMATION CONTACT: Ms. Marla J. Larsen-Williams, Real Estate Contracting Officer, 9800 S Cass Avenue, Building 201, Lemont, IL 60439, Email: marla.larsen-williams@science.doe.gov. Telephone: (865) 227-3332.

SUPPLEMENTARY INFORMATION: The following amendments are made:

The U.S. Department of Energy installation known as the ETTP is located in the Second Civil District of Roane County, Tennessee, within the corporate limits of the city of Oak Ridge, on the north side of Highway 58 (Oak Ridge Turnpike) approximately one mile east of Gallaher Bridge which spans the Clinch River. The previous ETTP 229 Security Boundary contained 4 areas which totaled 168.7 acres. This revised ETTP 229 Security Boundary for ETTP is divided into 4 areas totaling 50.0 acres. Area 1 is 15.5 acres and is known as the Disposal Area. Area 2 is 6.5 acres and is known as the K-1070-B Area. Area 3 is 24.8 acres known as K-1070-C & -D Area. Area 4 is 3.2 acres known as the K-1650 Area. The 229 Security Boundary for these areas is indicated by fencing and/or cable and post configuration which surrounds each of the four areas.

This security boundary is designated pursuant to Section 229 of the Atomic Energy Act of 1954. This revised boundary supersedes and/or re-describes the entries previously contained in the Federal Register notice published October 19, 1965 at 30 FR 13285; amended on March 30, 1967 at 32 FR 5384; and April 21, 1983 at 48 FR 17134; and January 23, 2008 at 73 FR 3950; and June 25, 2014 at 79 FR 36044, for the ETTP of the United States Department of Energy.

Signing Authority

This document of the Department of Energy was signed on October 13, 2020, by Marla J. Larsen-Williams, Real Estate Contracting Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on October 14, 2020.
Treena V. Garrett,
Federal Register Liaison Officer, U.S. Department of Energy.

[FR Doc. 2020-23082 Filed 10-16-20; 8:45 am]

BILLING CODE 6450-01-P